DEPARTMENT OF AGRICULTURE

Grain Inspection, Packers and Stockyards Administration

Designation for the Montgomery, AL; Essex, IL; and Savage, MN Areas

AGENCY: Grain Inspection, Packers and Stockyards Administration, USDA.

ACTION: Notice.

SUMMARY: GIPSA is announcing the designation of Alabama Department of Agriculture and Industries (Alabama); Kankakee Grain Inspection, Inc. (Kankakee); and State Grain Inspection, Inc. (State Grain) to provide official services under the United States Grain Standards Act (USGSA), as amended.

DATES: Effective Date: January 1, 2015.

ADDRESSES: Eric J. Jabs, Deputy Director, USDA, GIPSA, FGIS, QACD, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the August 26, 2014, Federal Register (79 FR 50886), GIPSA requested applications for designation to provide official services in the geographic areas presently serviced by Alabama, Gulf Country, Kankakee, and State Grain. Applications were due by September 25, 2014.

Alabama, Gulf Country, Kankakee, and State Grain were the sole applicants for designation to provide official services in these areas. As a result, GIPSA did not ask for additional comments.

GIPSA evaluated the designation criteria in section 79(f) of the USGSA (7 U.S.C. 79(f)) and determined that Alabama, Kankakee, and State Grain are qualified to provide official services in the geographic area specified in the Federal Register on August 26, 2014. This designation action to provide official services for the specified areas for Alabama, Kankakee, and State Grain is effective January 1, 2015, to December 31, 2017.

GIPSA did not receive applications from any qualified applicants for the geographic area previously serviced by Gulf Country. GIPSA will be seeking additional applications under a separate notice in the Federal Register. In the interim, GIPSA will provide official services in the geographic area previously serviced by Gulf Country.

Interested persons may obtain official services by contacting these agencies at the following telephone numbers:

Official agency | Headquarters location and telephone | Designation start | Designation end
Alabama | Montgomery, AL (251) 438-2549 | 1/1/2015 | 12/31/2017
Kankakee | Essex, IL (815) 365-2268 | 1/1/2015 | 12/31/2017
State Grain | Savage, MN (952) 808-8566 | 1/1/2015 | 12/31/2017

Section 79(f) of the USGSA authorizes the Secretary to designate a qualified applicant to provide official services in a specified area after determining that the applicant is better able than any other applicant to provide such official services (7 U.S.C. 79(f)).

Under section 79(g) of the USGSA (7 U.S.C. 79(g)), designations of official agencies are effective for no longer than three years unless terminated by the Secretary; however, designations may be renewed according to the criteria and procedures prescribed in section 79(f) of the USGSA.

Authority: 7 U.S.C. 71-87k.

Larry Mitchell,
Administrator, Grain Inspection, Packers and Stockyards Administration.

[FR Doc. 2015-17211 Filed 7-13-15; 8:45 am]

BILLING CODE 3410-KD-P